FEDERAL COMMUNICATIONS COMMISSION

Notice of Public Information Collection(s) Being Reviewed by the Federal Communications Commission

February 10, 2004.

SUMMARY: The Federal Communications Commission, as part of its continuing effort to reduce paperwork burden invites the general public and other Federal agencies to take this opportunity to comment on the following information collection(s), as required by the Paperwork Reduction Act of 1995, Public Law No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 18, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0511.

Title: ARMIS Access Report.

Report No: FCC Report 43-04.

Type of Review: Revision of a currently approved collection.

Respondents: Business or other for-profit.

Number of Respondents: 84.

Estimated Time Per Response: 153 hours.

Frequency of Response: Annual reporting requirement.

Total Annual Burden: 12,852 hours.

Total Annual Cost: N/A.

Needs and Uses: The Access Report is needed to administer the Commission's accounting, jurisdictional separations and access charge rules; to analyze revenue requirements and rates of return; and to collect financial data from Tier 1 incumbent local exchange carriers. The Commission is revising this information collection to add, eliminate and consolidate the number of reporting rows in FCC Report 43-04.

OMB Control No.: 3060-0798.

Title: FCC Application for Wireless Telecommunications Bureau Radio Service Authorization.

Form No: FCC Form 601.

Type of Review: Revision of a currently approved collection.

Respondents: Individuals or households, business or other for-profit, not-for-profit institutions, and state, local or tribal government.

Number of Respondents: 250,520.

Estimated Time Per Response: .50—1.25 hours.

Frequency of Response: On occasion and every 10 year reporting requirements, recordkeeping requirement and third party disclosure requirement.

Total Annual Burden: 219,205 hours.

Total Annual Cost: $50,104,000.

Needs and Uses: FCC Form 601 is a multi-purpose form used to apply for an authorization to operate radio stations, amend pending applications, modify existing licenses and perform a variety of other miscellaneous tasks in the Public Mobile Services, Personal Communications Services, General Wireless Communications Services, Private Land Mobile Radio Services, Broadcast Auxiliary Services, Fixed Microwave Services, Maritime Services (excluding ships), and Aviation Services (excluding aircraft). In addition to these services, the Commission is now revising the FCC Form 601 to include the “Millimeter Wave” spectrum in the 71-76, 81-86, and 92-95 GHz bands pursuant to Parts 90 and 101 of the FCC's rules. A new Schedule M has been created to accommodate this new spectrum as these services will be integrated into the Universal Licensing System (ULS) and to clarify existing instructions for the general public.

OMB Control No.: 3060-0855.

Title: Telecommunications Reporting Worksheet.

Form Nos: FCC Forms 499, 499A and 499-Q.

Type of Review: Revision of a currently approved collection.

Respondents: Business or other for-profit and not-for-profit institutions.

Number of Respondents: 5,500 respondents; 15,500 responses.

Estimated Time Per Response: 10—13.5 hours.

Frequency of Response: On occasion, annual, quarterly, and one-time reporting requirements, recordkeeping requirement and third party disclosure requirement.

Total Annual Burden: 175,487 hours.

Total Annual Cost: N/A.

Needs and Uses: The Commission seeks OMB approval to modify the FCC Form 499-A to collect information concerning carriers' uncollectible revenue. Pursuant to Sections 54.706, 54.709 and 54.711 of the Commission's rules, the proposed collection is needed to conduct the annual true-up of projected collected revenues against gross revenues report on the FCC Form 499-A. The Commission is also seeking to revise the instructions to the FCC Form 499 to cross-reference recordkeeping requirements outlined in Section 54.711 of the rules, as detailed in prior OMB-filings to modify the FCC Form 499 to conform to requirements established in the Interim Contribution Methodology Order.

Federal Communications Commission.
Marlene H. Dortch,
Secretary.

[FR Doc. 04-3360 Filed 2-13-04; 8:45 am]

BILLING CODE 6712-01-P